DEPARTMENT OF STATE

[Public Notice 10841]

In the Matter of the Amendment of the Designation of al-Shabaab (and Other Aliases) as a Foreign Terrorist Organization Pursuant to the Immigration and Nationality Act, as Amended

AGENCY: Department of State.

ACTION: Notice.

SUMMARY: A Public Notice entitled “In the Matter of the Amendment of the Designation of al-Shabaab (and other aliases) as a Foreign Terrorist Organization pursuant to Section 219 of the Immigration and Nationality Act, as amended” was signed by the Secretary of State on July 9, 2018, and published in the Federal Register (https://www.federalregister.gov/documents/2018/07/25/2018-15917/in-the-matter-of-the-review-of-the-designation-of-al-shabaab-and-other-aliases-as-a-foreign) on July 25, 2018. However, the wrong version of the document was submitted to the Office of the Federal Register and therefore the wrong notice was published as Public Notice 10471. This Notice contains the correct text below, as approved by the Secretary of State, who authorized and directed publication in the Federal Register. This Notice is being published to correct the record.

Janet Freer,
Director, Office of Directives Management, Bureau of Administration, Department of State.

In the Matter of the Amendment of the Designation of al-Shabaab (and other aliases) as a Foreign Terrorist Organization pursuant to Section 219 of the Immigration and Nationality Act, as amended.

Based upon a review of the Administrative Record assembled pursuant to Section 219 of the Immigration and Nationality Act, as amended (8 U.S.C. §1189) (“INA”), and in consultation with the Attorney General and the Secretary of the Treasury, I have concluded that there is a sufficient factual basis to find that the following are aliases of al-Shabaab: al-Hijra, Al Hijra, Muslim Youth Center, MYC, Pumwani Muslim Youth, Pumwani Islamist Muslim Youth Center.

Therefore, pursuant to Section 219(b) of the INA, as amended (8 U.S.C. 1189(b)), I hereby amend the designation of al-Shabaab as a foreign terrorist organization to include the following new aliases: al-Hijra, Al Hijra, Muslim Youth Center, MYC, Pumwani Muslim Youth, Pumwani Islamist Muslim Youth Center.

This determination shall be published in the Federal Register.

Dated July 8, 2018.

Michael Pompeo,

Secretary of State.

[FR Doc. 2019-16448 Filed 7-31-19; 8:45 am]

BILLING CODE 4710-10-P